NUCLEAR REGULATORY COMMISSION

[NRC-2018-0188]

Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 14 to August 27, 2018. The last biweekly notice was published on August 28, 2018.

DATES: Comments must be filed by October 11, 2018. A request for a hearing must be filed by November 13, 2018.

ADDRESSES: You may submit comments by any of the following methods (unless this document describes a different method for submitting comments on a specific subject):

• Federal Rulemaking website: Go to http://www.regulations.gov and search for Docket ID NRC-2018-0188. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington DC 20555-0001; telephone: 301-415-3475, email: Beverly.Clayton@nrc.gov.

SUPPLEMENTARY INFORMATION:

I. Obtaining Information and Submitting Comments

A. Obtaining Information

Please refer to Docket ID NRC-2018-0188 facility name, unit number(s), plant docket number, application date, and subject when contacting the NRC about the availability of information for this action. You may obtain publicly-available information related to this action by any of the following methods:

• Federal Rulemaking Website: Go to http://www.regulations.gov and search for Docket ID NRC-2018-0188.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0188 facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in section 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Energy Northwest, Docket No. 50-397, Columbia Generating Station, Benton County, Washington

Date of amendment request: June 12, 2018, as supplemented by letter dated August 7, 2018. Publicly-available versions are in ADAMS under Accession Nos. ML18163A351 and ML18219C797, respectively.

Description of amendment request: The amendment proposes to clean-up the operating license and the technical specifications, including editorial changes and the removal of obsolete information.

Basis for proposed no significant hazards consideration determination: As required by 10 CFR 50.91(a), the licensee has provided its analysis of the issue of no significant hazards consideration, which is presented below:

1. Does the proposed change involve a significant increase in the probability or consequences of an accident previously evaluated?

Response: No.

The impacts of these administrative changes do not affect how plant equipment is operated or maintained. The proposed changes do not impact the intent or substance of the Operating License (OL) or Technical Specifications (TS). There are no changes to the physical plant or analytical methods.

The proposed amendment involves administrative and editorial changes only. The proposed amendment does not impact any accident initiators, analyzed events, or assumed mitigation of accident or transient events. The proposed changes do not involve the addition or removal of any equipment or any design changes to the facility. The proposed changes do not affect any plant operations, design functions, or analyses that verify the capability of structures, systems, and components (SSCs) to perform a design function. The proposed changes do not change any of the accidents previously evaluated in the updated Final Safety Analysis Report (FSAR). The proposed changes do not affect SSCs, operating procedures, and administrative controls that have the function of preventing or mitigating any of these accidents.

Therefore, the proposed changes do not represent a significant increase in the probability or consequences of an accident previously evaluated.

2. Does the proposed change create the possibility of a new or different kind of accident from any accident previously evaluated?

Response: No.

The proposed amendment only involves administrative and editorial changes. No actual plant equipment or accident analyses will be affected by the proposed changes. The proposed changes will not change the design function or operation of any SSCs. The proposed changes will not result in any new failure mechanisms, malfunctions, or accident initiators not considered in the design and licensing bases. The proposed amendment does not impact any accident initiators, analyzed events, or assumed mitigation of accident or transient events.

Therefore, this proposed changes do not create the possibility of an accident of a new or different kind than previously evaluated.

3. Does the proposed change involve a significant reduction in a margin of safety?

Response: No.

The proposed amendment only involves administrative and editorial changes. The proposed changes do not involve any physical changes to the plant or alter the manner in which plant systems are operated, maintained, modified, tested, or inspected. The proposed changes do not alter the manner in which safety limits, limiting safety system settings or limiting conditions for operation are determined. The safety analysis acceptance criteria are not affected by these changes. The proposed changes will not result in plant operation in a configuration outside the design basis. The proposed changes do not adversely affect systems that respond to safely shutdown the plant and to maintain the plant in a safe shutdown condition.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW, Washington, DC 20006-3817.

NRC Branch Chief: Robert J. Pascarelli.

Entergy Nuclear Indian Point 2, LLC and Entergy Nuclear Operations, Inc., Docket Nos. 50-003 and 50-247, Indian Point Nuclear Generating Unit Nos. 1 and 2 (IP1 and IP2), Westchester County, New York

Date of amendment request: June 20, 2018. A publicly-available version is in ADAMS under Package Accession No. ML18179A173.

Description of amendment request: The amendment would delete specific license conditions from the Indian Point Unit Nos. 1 and 2 (IP1 and IP2) facility operating licenses related to the terms and conditions of the decommissioning trust fund agreement. Specifically, the amendment would allow the provisions of 10 CFR 50.75(h), which specify the regulatory requirements for decommissioning trust funds, to apply to Entergy Nuclear Operations, Inc.

Basis for proposed no significant hazards consideration determination: As required by 10 CFR 50.91(a), the licensee has provided its analysis of the issue of no significant hazards consideration, which is presented below:

1. Do the proposed amendments involve a significant increase in the probability or consequences of an accident previously evaluated?

Response: No.

The requested changes delete License Conditions 6.(a) and 7 of the IP1 OL [Operating License] and License Conditions 3.(a) and 4 of the IP2 OL, which pertain to the decommissioning trust agreements.

This request involves changes that are administrative in nature. No actual plant equipment or accident analyses will be affected by the proposed changes. Therefore, the proposed change does not involve a significant increase in the probability or consequences of an accident previously evaluated.

2. Do the proposed amendments create the possibility of a new or different kind of accident from any accident previously evaluated?

Response: No.

This request involves administrative changes to the IP1 and IP2 OLs relating to the terms and conditions of the decommissioning trust agreements. The proposed changes will be consistent with the NRC's regulations at 10 CFR 50.75(h).

No actual plant equipment or accident analyses will be affected by the proposed changes and no failure modes not bounded by previously evaluated accidents will be created.

Therefore, the proposed amendments do not create the possibility of a new or different kind of accident from any previously evaluated.

3. Do the proposed amendments involve a significant reduction in a margin of safety?

Response: No.

This request involves administrative changes to the IP1 and IP2 OLs that will be consistent with the NRC's regulations at 10 CFR 50.75(h).

Margin of safety is associated with confidence in the ability of the fission product barriers to limit the level of radiation doses to the public. No actual plant equipment or accident analyses will be affected by the proposed change. Additionally, the proposed changes will not relax any criteria used to establish safety limits, will not relax any safety systems settings, or will not relax the bases for any limiting conditions of operation.

Therefore, the proposed amendments do not involve a significant reduction in the margin of safety.

The NRC staff has reviewed the licensee's analysis and, based on this review, it appears that the three standards of 10 CFR 50.92(c) are satisfied. Therefore, the NRC staff proposes to determine that the amendment request involves no significant hazards consideration.

Attorney for licensee: Bill Glew, Associate General Counsel, Entergy Services, Inc., 639 Loyola Avenue, 22nd Floor, New Orleans, LA 70113.

NRC Branch Chief: James G. Danna.

NextEra Energy Seabrook, LLC, Docket No. 50-443, Seabrook Station, Unit No. 1 (Seabrook), Rockingham County, New Hampshire

Florida Power & Light Company, et al., Docket Nos. 50-335 and 50-389, St. Lucie Plant, Unit Nos. 1 and 2, St. Lucie County, Florida

Florida Power & Light Company, Docket Nos. 50-250 and 50-251, Turkey Point Nuclear Generating Unit Nos. 3 and 4 (Turkey Point), Miami-Dade County, Florida

Date of amendment request: May 29, 2018. A publicly-available version is in ADAMS under Accession No. ML18151A472.

Description of amendment request: The amendments would revise the technical specifications (TS) to include the provisions of Limit Conditioning for Operation (LCO) 3.0.6 in the standard TS. In support of this change, the licensee is also proposing to add a new Safety Function Determination Program to the administrative section of the TS, Notes and Actions that direct entering the Actions for the appropriate supported systems, and changes to LCO 3.0.2 for all three facilities; as well as changes to LCO 3.0.1 for Seabrook and Turkey Point.

Basis for proposed no significant hazards consideration determination: As required by 10 CFR 50.91(a), the licensee has provided its analysis of the issue of no significant hazards consideration, which is presented below:

1. Does the proposed change involve a significant increase in the probability or consequences of an accident previously evaluated?

Response: No.

This change is associated with the administrative requirements for implementing the TS, which are not initiators of any accidents previously evaluated, so the probability of accidents previously evaluated is unaffected by the proposed change. The proposed change does not alter the design, function, or operation of any plant structure, system, or component (SSC). The capability of any operable TS-required SSC to perform its specified safety function is not impacted by the proposed change. As a result, the outcomes of accidents previously evaluated are unaffected. Therefore, the proposed change does not result in a significant increase in the probability or consequences of an accident previously evaluated.

Therefore, it is concluded that this change does not involve a significant increase in the probability or consequences of an accident previously evaluated.

2. Does the proposed change create the possibility of a new or different kind of accident from any accident previously evaluated?

Response: No.

The proposed change does not challenge the integrity or performance of any safety-related systems. No plant equipment is installed or removed, and the changes do not alter the design, physical configuration, or method of operation of any plant SSC. No physical changes are made to the plant, so no new causal mechanisms are introduced. Therefore, the proposed change does not create the possibility of a new or different kind of accident from any accident previously evaluated.

Therefore, it is concluded that this change does not create the possibility of a new or different kind of accident from any accident previously evaluated.

3. Does the proposed change involve a significant reduction in a margin of safety?

Response: No.

The ability of any operable SSC to perform its designated safety function is unaffected by the proposed changes. The proposed change does not alter any safety analyses assumptions, safety limits, limiting safety system settings, or method of operating the plant. The change does not adversely affect plant operating margins or the reliability of equipment credited in the safety analyses.

The proposed change allows not entering the Actions for supported systems that are inoperable solely due to a support system LCO not being met. However, the change also requires implementing a Safety Function Determination Program (SFDP) to determine if a loss of safety function exists. If the SFDP determines that a loss of safety function exists, the appropriate actions of the LCO in which the loss of safety function exists are required to be entered.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, P.O. Box 14000, Juno Beach, FL 33408-0420.

NRC Branch Chief: James G. Danna.

Northern States Power Company, Docket Nos. 50-282 and 50-306, Prairie Island Nuclear Generating Plant, Units 1 and 2 (PINGP), Goodhue County, Minnesota

Date of amendment request: June 26, 2018. A publicly-available version is in ADAMS under Accession No. ML18177A450.

Brief description of amendment request: The proposed amendments would modify the PINGP licensing basis by the addition of a License Condition to allow for the implementation of the provisions of 10 CFR 50.69, “Risk-Informed Categorization and Treatment of Structures, Systems, and Components for Nuclear Power Reactors.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change will permit the use of a risk-informed categorization process to modify the scope of Structures, Systems and Components (SSCs) subject to NRC special treatment requirements and to implement alternative treatments per the regulation. The process used to evaluate SSCs for changes to NRC special treatment requirements and the use of alternative requirements ensure the ability of the SSCs to perform their design function. The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed amendment create the possibility of a new or different kind of accident from any previously evaluated?

Response: No.

The proposed change will permit the use of a risk-informed categorization process to modify the scope of SSCs subject to NRC special treatment requirements and to implement alternative treatments per the regulation. The proposed change does not change the functional requirements, configuration, or method of operation of any SSC. Under the proposed change, no additional plant equipment will be installed.

Therefore, the proposed changes do not create the possibility of a new or different kind of accident from any accident previously evaluated.

3. Does the proposed amendment involve a significant reduction in a margin of safety?

Response: No.

The proposed change will permit the use of a risk-informed categorization process to modify the scope of SSCs subject to NRC special treatment requirements and to implement alternative treatments per the regulation. The proposed change does not affect any Safety Limits or operating parameters used to establish the safety margin. The safety margins included in analyses of accidents are not affected by the proposed change. The regulation requires that there be no significant effect on plant risk due to any change to the special treatment requirements for SSCs and that the SSCs continue to be capable of performing their design basis functions, as well as to perform any beyond design basis functions consistent with the categorization process and results.

Therefore, the proposed changes do not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: David J. Wrona.

Southern Nuclear Operating Company, Docket Nos. 52-025 and 52-026, Vogtle Electric Generating Plant, Units 3 and 4, Burke County, Georgia

Date of amendment request: July 20, 2018. A publicly-available version is in ADAMS under Accession No. ML18201A610.

Description of amendment request: The requested amendment proposes to change Technical Specifications (TS) regarding operability requirements for the Engineered Safety Features Actuation System Spent Fuel Pool Level—Low 2 and In-Containment Refueling Water Storage Tank (Wide Range Level—Low instrumentation functions for Refueling Cavity and Spent Fuel Pool Cooling System (SFS) Isolation. Additional changes are proposed to add TS operability requirements for the SFS containment isolation valves in MODES 5 and 6.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the safety limits as described in the plant-specific Technical Specifications. In addition, the limiting safety system settings and limiting control settings continue to be met with the proposed changes to the plant-specific Technical Specifications limiting conditions for operation, applicability, actions, and surveillance requirements. The proposed changes do not adversely affect the operation of any systems or equipment that initiate an analyzed accident or alter any structures, systems, and components (SSCs) accident initiator or initiating sequence of events. The proposed changes do not result in any increase in probability of an analyzed accident occurring, and maintain the initial conditions and operating limits required by the accident analysis, and the analyses of normal operation and anticipated operational occurrences, so that the consequences of postulated accidents are not changed. The proposed changes do not adversely affect the ability of the Refueling Cavity and SFS Isolation function, and the SFS containment isolation valves, to perform the required safety functions, and do not adversely affect the probability of inadvertent operation or failure of the required safety functions.

Therefore, the requested amendment does not involve a significant increase in the probability or consequences of an accident previously evaluated.

2. Does the proposed amendment create the possibility of a new or different kind of accident from any accident previously evaluated?

Response: No.

The proposed changes do not affect the safety limits as described in the plant-specific Technical Specifications. In addition, the limiting safety system settings and limiting control settings continue to be met with the proposed changes to the plant-specific Technical Specifications limiting conditions for operation, applicability, actions, and surveillance requirements. The proposed changes do not affect the operation of any systems or equipment that may initiate a new or different kind of accident, or alter any SSC such that a new accident initiator or initiating sequence of events is created.

These proposed changes do not adversely affect any other SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the requested amendment does not create the possibility of a new or different kind of accident from any accident previously evaluated.

3. Does the proposed amendment involve a significant reduction in a margin of safety?

Response: No.

The proposed changes do not affect the safety limits as described in the plant-specific Technical Specifications. In addition, the limiting safety system settings and limiting control settings continue to be met with the proposed changes to the plant-specific Technical Specifications limiting conditions for operation, applicability, actions, and surveillance requirements. The proposed changes do not affect the initial conditions and operating limits required by the accident analysis, and the analyses of normal operation and anticipated operational occurrences, so that the acceptance limits specified in the UFSAR [Updated Final Safety Analysis Report] are not exceeded. The proposed changes satisfy the same safety functions in accordance with the same requirements as stated in the UFSAR. These changes do not adversely affect any design code, function, design analysis, safety analysis input or result, or design/safety margin.

No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Inc. (SNC), Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: March 9, 2018. A publicly-available version is in ADAMS under Accession No. ML18071A363.

Description of amendment request: The amendments would revise the Technical Specifications (TS) requirements for the Hatch Nuclear Plant, Unit Nos. 1 and 2. Specifically, TS 3.3.8.1, “Loss of Power (LOP) Instrumentation,” for Unit Nos. 1 and 2 would be revised to modify the instrument allowable values (AVs) for the 4.16 kilovolt (kV) emergency bus degraded voltage instrumentation and delete the annunciation requirements for the 4.16 kV emergency bus undervoltage instrumentation associated with the Unit 2 emergency buses. In addition, the proposed amendments would revise Unit 2 License Condition 2.C(3)(i) to clarify its intent.

Basis for proposed no significant hazards consideration determination: As required by 10 CFR 50.91(a), the licensee has provided its analysis of the issue of no significant hazards consideration, which is presented below:

1. Does the proposed amendment involve a significant increase in the probability or consequences of an accident previously evaluated?

Response: No.

The proposed change incorporates concomitant changes to the LOP instrumentation requirements to reflect an electrical power system modification by deleting the unnecessary loss of voltage annunciation requirements and increasing the AVs for the degraded voltage protection instrumentation.

The proposed license change does not involve a physical change to the LOP instrumentation, nor does it change the safety function of the LOP instrumentation or the equipment supported by the LOP instrumentation. Automatic starting of the [diesel generators] DGs is assumed in the mitigation of a design basis event upon a loss of offsite power. This includes transferring the normal offsite power source to an alternate or emergency power source in the event of a sustained degraded voltage condition. The LOP instrumentation continues to provide this capability and is not altered by the proposed license change. The proposed change does not adversely affect accident initiators or precursors including a loss of offsite power or station blackout. The revised LOP degraded instrumentation setpoints ensure that the Class 1E electrical distribution system is separated from the offsite power system prior to damaging the safety related loads during sustained degraded voltage conditions while avoiding an inadvertent separation of safety-related buses from the offsite power system. Additionally, the degraded voltage instrumentation time delay will isolate the Class 1E electrical distribution system from offsite power before the diesel generators are ready to assume the emergency loads, which is the limiting time basis for mitigating system responses to design basis accidents. As a result, the proposed change does not significantly alter assumptions relative to the mitigation of an accident or transient event and the proposed change does not involve a significant increase in the probability or consequences of an accident previously evaluated.

2. Does the proposed amendment create the possibility of a new or different kind of accident from any accident previously evaluated?

Response: No.

With respect to a new or different kind of accident, the proposed license change does not alter the design or performance of the LOP instrumentation or electrical power system; nor are there any changes in the method by which safety related plant structures, systems, and components (SSCs) perform their specified safety functions as a result of the proposed license amendment. The proposed change deletes the loss of voltage annunciation requirements and increases the AVs for the degraded voltage protection instrumentation as a result of an electrical power system modification, which SNC has evaluated independently of this proposed license amendment. The proposed license amendment will not affect the normal method of plant operation or revise any operating parameters. Additionally, there is no detrimental impact on the manner in which plant equipment operates or responds to an actuation signal as a result of the proposed license change. No new accident scenarios, transient precursor, failure mechanisms, or limiting single failures will be introduced as a result of this proposed change and the failure modes and effects analyses of SSCs important to safety are not altered as a result of this proposed change.

The process of operating and testing the LOP instrumentation uses current procedures, methods, and processes already established and currently in use and is not being altered by the proposed license amendment. Therefore, the proposed change does not constitute a new type of test.

Accordingly, the proposed change does not create the possibility of a new or different kind of accident from any previously evaluated.

3. Does the proposed amendment involve a significant reduction in a margin of safety?

Response: No.

Margin of safety is provided by the performance capability of plant equipment in preventing or mitigating challenges to fission product barriers under postulated operational transient and accident conditions. The proposed license change deletes the loss of voltage annunciation requirements and increases the AVs for the degraded voltage protection instrumentation as a result of an electrical power system modification, which SNC has evaluated independently of this proposed license amendment. The proposed deletion of the loss of voltage annunciation requirements is offset by the more restrictive degraded voltage instrumentation AVs thereby providing an automatic emergency bus transfer to the alternate or emergency power supply in the event of a sustained degraded voltage condition.

Therefore, the margin[s] associated with a design basis or safety limit parameter are not adversely impacted by the proposed amendment and, thus the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Inverness Center Parkway, Birmingham, AL 35242.

NRC Branch Chief: Michael T. Markley.

Virginia Electric and Power Company, Docket Nos. 50-338 and 50-339, North Anna Power Station, Unit Nos. 1 and 2, Louisa County, Virginia and Docket Nos. 50-280 and 50-281, Surry Power Station, Unit Nos. 1 and 2, Surry County, Virginia

Date of amendment request: January 16, 2018, as supplemented by letter dated June 13, 2018. Publicly-available versions are in ADAMS under Accession Nos. ML18025B468 and ML18169A224, respectively.

Description of amendment request: The amendments would authorize changes to the North Anna Power Station (NAPS) and Surry Power station (SPS) emergency plans and would allow the consolidation of both sites' current emergency operations facilities (EOF) into a central EOF. As the location of the consolidated EOF would be greater than 25 miles from either site, this action requires the approval of the NRC itself.

Basis for proposed no significant hazards consideration determination: As required by 10 CFR 50.91(a), the licensee has provided its analysis of the issue of no significant hazards consideration, which is presented below:

1. Do the proposed amendments involve a significant increase in the probability or consequences of an accident previously evaluated?

Response: No.

The proposed amendments affect the NAPS and SPS emergency plans, including relocation of [Consolidated Emergency Response Plan] CERP content, but do not alter any of the requirements of the Operating Licenses or the Technical Specifications. The proposed amendments do not modify any plant equipment and [do] not impact any failure modes that could lead to an accident. Additionally, the proposed amendments have no effect on the consequences of any analyzed accident since the amendments do not affect any equipment related to accident mitigation. Therefore, the proposed amendments do not involve a significant increase [in] the probability or consequences of an accident previously evaluated.

2. Do the proposed amendments create the possibility of a new or different kind of accident from any accident previously evaluated?

Response: No.

The proposed amendments affect the NAPS and SPS emergency plans, including relocation of CERP content, but do not alter any of the requirements of the Operating Licenses or the Technical Specifications. [They do] not modify any plant equipment and there are no impacts on the capability of existing equipment to perform its intended functions. No system setpoints are being modified and no new failure modes are introduced. The proposed amendments do not introduce new accident initiator[s] or malfunctions that would cause a new or different kind of accident. Therefore, the proposed amendments do not create the possibility of a new or different kind of accident from any accident previously evaluated.

3. Do the proposed amendments involve a significant reduction in a margin of safety?

Response: No.

The proposed amendments affect the NAPS and SPS emergency plans, including relocation of CERP content, but do not alter any of the requirements of the Operating Licenses or the Technical Specifications. The proposed amendments do not affect any of the assumptions used in the accident analyses, or any operability requirements for equipment important to plant safety. Therefore, the proposed amendments do not involve a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Michael T. Markley.

Virginia Electric and Power Company, Docket Nos. 50-338 and 50-339, North Anna Power Station, Unit Nos. 1 and 2, Louisa County, Virginia

Date of amendment request: January 22, 2018, as supplemented by letter dated March 26, 2018. Publicly-available versions are in ADAMS under Accession Nos. ML18029A118, and ML18092A081, respectively.

Description of amendment request: The amendments would revise the North Anna Technical Specification (TS) requirements regarding ventilation system testing in accordance with the Technical Specifications Task Force traveler, TSTF-522, “Revise Ventilation System Surveillance Requirements to Operate for 10 Hours per Month.”

Basis for proposed no significant hazards consideration determination: As required by 10 CFR 50.91(a), the licensee has provided its analysis of the issue of no significant hazards consideration, which is presented below:

1. Does the proposed change involve a significant increase in the probability or consequences of an accident previously evaluated?

Response: No.

The proposed change replaces existing [Surveillance Requirements] SRs to operate the [Main Control Room/Emergency Switchgear Room Emergency Ventilation System] MCR/ESGR EVS and [Emergency Core Cooling System Pump Room Exhaust Air Cleanup System] ECCS PREACS Systems equipped with electric heaters for a continuous 10 hour period every 31 days with a requirement to operate the systems for 15 continuous minutes every 31 days with heaters operating, if needed. In addition, the electrical heater output test in the [Ventilation Filter Testing Program] VFTP (TS 5.5.10.e) is proposed to be removed and a corresponding change in the charcoal filter testing (TS 5.5.10.c) be made to require testing be conducted at a humidity of at least 95% [relative humidity] RH, which is more stringent than the current testing requirement of 70% RH.

These systems are not accident initiators and therefore, these changes do not involve a significant increase in the probability of an accident. The proposed system and filter testing changes are consistent with current regulatory guidance for these systems and will continue to assure that these systems perform their design function which may include mitigating accidents. Thus, the change does not involve a significant increase in the consequences of an accident.

The change to the [Environmental Protection Plan] EPP is administrative in nature to reflect approved NRC references (codes).

Therefore, it is concluded that this change does not involve a significant increase in the probability or consequences of an accident previously evaluated.

2. Does the proposed change create the possibility of a new or different kind of accident from any accident previously evaluated?

Response: No.

The proposed change replaces existing SRs to operate the MCR/ESGR EVS and ECCS PREACS Systems equipped with electric heaters for a continuous 10 hour period every 31 days with a requirement to operate the systems for 15 continuous minutes every 31 days with heaters operating, if needed. In addition, the electrical heater output test in the VFTP (TS 5.5.10.e) is proposed to be removed and a corresponding change in the charcoal filter testing (TS 5.5.10.c) be made to require testing be conducted at a humidity of at least 95% RH, which is more stringent than the current testing requirement of 70% RH.

The change proposed for these ventilation systems does not change any system operations or maintenance activities. Testing requirements will be revised and will continue to demonstrate that the Limiting Conditions for Operation are met and the system components are capable of performing their intended safety functions. The change does not create new failure modes or mechanisms and no new accident precursors are generated.

The change to the EPP is administrative in nature to reflect approved NRC references (codes).

Therefore, it is concluded that this change does not create the possibility of a new or different kind of accident from any accident previously evaluated.

3. Does the proposed change involve a significant reduction in a margin of safety?

Response: No.

The proposed change replaces existing SRs to operate the MCR/ESGR EVS and ECCS PREACS Systems equipped with electric heaters for a continuous 10 hour period every 31 days with a requirement to operate the systems for 15 continuous minutes every 31 days with heaters operating, if needed. In addition, the electrical heater output test in the VFTP (TS 5.5.10.e) is proposed to be removed and a corresponding change in the charcoal filter testing (TS 5.5.10.c) be made to require testing be conducted at a humidity of at least 95% RH, which is more stringent than the current testing requirement of 70% RH.

The proposed increase to 95% RH in the required testing of the MCR/ESGR EVS charcoal filters compensates for the function of the heaters, which was to reduce the humidity of the incoming air to below the currently-specified value of 70% RH for the charcoal. The proposed change is consistent with regulatory guidance and continues to ensure that the performance of the charcoal filters is acceptable.

The change to the EPP is administrative in nature to reflect approved NRC references (codes).

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Michael T. Markley.

Virginia Electric and Power Company, Docket Nos. 50-338 and 50-339, North Anna Power Station, Unit Nos. 1 and 2, Louisa County, Virginia

Date of amendment request: April 30, 2018. A publicly-available version is in ADAMS under Accession No. ML18127A073.

Description of amendment request: The amendments would revise the Technical Specification (TS) requirements to add operability requirements, required actions, and surveillance requirements for the new 4160 volt emergency bus voltage unbalance protection system at the North Anna Power Station, Unit Nos. 1 and 2.

Basis for proposed no significant hazards consideration determination: As required by 10 CFR 50.91(a), the licensee has provided its analysis of the issue of no significant hazards consideration, which is presented below:

1. Does the change involve a significant increase in the probability or consequences of an accident previously evaluated?

Response: No.

The proposed change adds operability requirements, required actions, and surveillance requirements for the voltage unbalance (open phase) protection function associated with the 4kV emergency buses. This system provides an additional level of undervoltage protection for Class 1E electrical equipment. The proposed change will promote reliability of the voltage unbalance (open phase) protection circuitry in the performance of its design function of detecting and mitigating a voltage unbalance condition on a required off-site primary power source and initiating transfer to the onsite emergency power source.

The new voltage unbalance (open phase) protection function will further ensure the normally operating Class 1E motors/equipment, which are powered from the Class 1E buses, are appropriately isolated from a primary off-site power source experiencing a consequential voltage unbalance and will not be damaged. The addition of the voltage unbalance (open phase) protection function will continue to allow the existing undervoltage protection circuitry to function as originally designed (i.e., degraded and loss of voltage protection will remain in place and be unaffected by this change). The proposed change does not affect the probability of any accident resulting in a loss of voltage or degraded voltage condition on the Class 1E electrical buses and will enhance station response to mitigating the consequences of accidents previously evaluated as this change further ensures continued operation of Class 1E equipment throughout accident scenarios.

Specific models and analyses were performed and demonstrated that the proposed voltage unbalance (open phase) protection function, with the specified operability requirements, required actions, and surveillance requirements, will ensure the Class 1E system will be isolated from the off-site power source should a consequential voltage unbalance condition occur. The Class 1E motors will be subsequently sequenced back onto the Class 1E buses powered by the [emergency diesel generators] EDGs and will therefore not be damaged in the event of a consequential voltage unbalance under both accident and non-accident conditions. Therefore, the Class 1E loads will be available to perform their design basis functions should a loss of coolant accident (LOCA) occur concurrent with a loss of offsite power (LOOP) following a voltage unbalance condition. The loading sequence (i.e., timing) of Class 1E equipment back onto the ESF bus, powered by the EDG, is within the existing degraded voltage time delay.

The addition of the new voltage unbalance (open phase) protection function will have no impact on accident initiators or precursors and does not alter the accident analysis assumptions.

Based on the above, the proposed change does not involve a significant increase in the probability or consequences of an accident previously evaluated.

2. Does the change create the possibility of a new or different kind of accident from any accident previously evaluated?

Response: No.

The proposed change does not alter the requirements for the availability of the 4kV emergency buses during accident conditions. The proposed change does not alter assumptions made in the safety analysis and is consistent with those assumptions. The addition of the voltage unbalance (open phase) protection function TS enhances the ability of plant operators to identify and respond to a voltage unbalance condition in an off-site, primary power source, thereby ensuring the station electric distribution system will perform its intended safety function as designed. The proposed TS change will promote voltage unbalance (open phase) protection function performance reliability in a manner similar to the existing loss of voltage and degraded voltage protective circuitry.

The proposed change does not result in the creation of any new accident precursors; does not result in changes to any existing accident scenarios; and does not introduce any operational changes or mechanisms that would create the possibility of a new or different kind of accident. A failure mode and effects review was completed for postulated failure mechanisms of the new voltage unbalance protection function and concluded that the addition of this protection function would not: (1) Affect the existing loss of voltage and degraded voltage protection schemes, (2) affect the number of occurrences of degraded voltage conditions that would cause the actuation of the existing Loss of Voltage, Degraded Voltage or negative sequence voltage protection relays, (3) would not affect the failure rate of the existing protection relays, and (4) would not impact the assumptions in any existing accident scenario.

Therefore, the proposed change does not create the possibility of a new or different kind of accident from any accident previously evaluated.

3. Does this change involve a significant reduction in a margin of safety?

Response: No.

The proposed change enhances the ability of the plant to identify and isolate a voltage unbalance in an off-site, primary power source and transfer the power source for the 4kV emergency buses to the onsite emergency power system. The proposed change does not affect the dose analysis acceptance criteria, does not result in plant operation in a configuration outside the analyses or design basis, and does not adversely affect systems that respond to safely shutdown the plant and to maintain the plant in a safe shutdown condition.

With the addition of the new voltage unbalance (open phase) protection function, the capability of Class 1E equipment to perform its safety function will be further assured and the equipment will remain capable of mitigating the consequences of previously analyzed accidents while maintaining the existing margin to safety currently assumed in the accident analyses.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station (Catawba), Units 1 and 2, York County, South Carolina

Duke Energy Carolinas, LLC, Docket Nos. 50-369 and 50-370, McGuire Nuclear Station (McGuire), Units 1 and 2, Mecklenburg County, North Carolina

Duke Energy Carolinas, LLC, Docket Nos. 50-269, 50-270, and 50-287, Oconee Nuclear Station (Oconee), Units 1, 2, and 3, Oconee County, South Carolina

Duke Energy Progress, LLC, Docket No. 50-400, Shearon Harris Nuclear Power Plant (Harris), Unit 1, Wake County, North Carolina

Duke Energy Progress, LLC, Docket No. 50-261, H. B. Robinson Steam Electric Plant (Robinson), Unit No. 2, Darlington County, South Carolina

Date of amendment request: November 7, 2017.

Brief description of amendments: The amendments revised the technical specifications (TSs) based on Technical Specification Task Force (TSTF) Traveler TSTF-545, Revision 3, “TS Inservice Testing [IST] Program Removal & Clarify SR [Surveillance Requirement] Usage Rule Application to Section 5.5 Testing,” with some variations. For each plant, the changes included deleting the current TS for the IST Program, adding a new defined term, “Inservice Testing Program,” to the TSs, and revising other TSs to reference this new defined term instead of the deleted TS.

Date of issuance: August 15, 2018.

Effective date: As of the date of issuance and shall be implemented within 120 days of issuance.

Amendment Nos.: Catawba (Unit 1—299, Unit 2—295); McGuire (Unit 1—309, Unit 2—288); Oconee (Unit 1—409, Unit 2—411, Unit 3—410); Harris (Unit 1—166); and Robinson (Unit 2—259). A publicly-available version is in ADAMS under Accession No. ML18172A172; documents related to these amendments are listed in the Safety Evaluation enclosed with the amendments.

Renewed Facility Operating License Nos. NPF-35, NPF-52, NPF-9, NPF-17, DPR-38, DPR-47, DPR-55, NPF-63, and DPR-23: Amendments revised the Renewed Facility Operating Licenses and TSs.

Date of initial notice in Federal Register: January 16, 2018 (83 FR 2227).

The Commission's related evaluation of the amendment is contained in a Safety Evaluation dated August 15, 2018.

No significant hazards consideration comments received: No.

Duke Energy Progress, LLC, Docket No. 50-261, H. B. Robinson Steam Electric Plant, Unit No. 2, Darlington County, South Carolina

Date of amendment request: February 7, 2018.

Brief description of amendment: The amendment revised the Technical Specification (TS) Section 3.4.3 “RCS [Reactor Coolant System] Pressure and Temperature (P/T) Limits,” to reduce the applicability terms from 50 effective full-power years (EFPY) to 46.3 EFPY in Figures 3.4.3-1 and 3.4.3-2, as a result of the removal of part length fuel assemblies and the migration to 24-month fuel cycles.

Date of issuance: August 16, 2018.

Effective date: As of the date of issuance and shall be implemented within 120 days of issuance.

Amendment No.: 260. A publicly-available version is in ADAMS under Accession No. ML18200A042; documents related to this amendment are listed in the Safety Evaluation enclosed with the amendment.

Renewed Facility Operating License No. DPR-23: Amendment revised the Renewed Facility Operating License and TSs.

Date of initial notice in Federal Register: April 10, 2018 (83 FR 15415).

The Commission's related evaluation of the amendment is contained in a Safety Evaluation dated August 16, 2018.

No significant hazards consideration comments received: No.

Entergy Nuclear Operations, Inc., Docket No. 50-271, Vermont Yankee Nuclear Power Station, Vernon, Vermont

Date of amendment request: July 20, 2017.

Brief description of amendment: The amendment is for a revision to the Facility Operating License and Technical Specifications to reflect the removal of all spent nuclear fuel from the Vermont Yankee Nuclear Power Station spent fuel pool and its transfer to dry cask storage within an onsite independent spent fuel storage installation (ISFSI) once all of the spent nuclear fuel is placed in the ISFSI.

Date of issuance: August 15, 2018.

Effective date: As of the date of issuance and shall be implemented within 60 days of issuance.

Amendment No.: 270. A publicly-available version is in ADAMS under Accession No. ML18156A179; documents related to this amendment are listed in the Safety Evaluation enclosed with the amendment.

Facility Operating License No. DPR-28: The amendment revised the Facility Operating License.

Date of initial notice in Federal Register: September 26, 2017 (82 FR 44847).

The Commission's related evaluation of the amendment is contained in a Safety Evaluation dated August 15, 2018.

No significant hazards consideration comments received: No.

Exelon FitzPatrick, LLC and Exelon Generation Company, LLC Docket No. 50-333, James A. FitzPatrick Nuclear Power Plant (JAFNPP), Oswego County, New York

Date of amendment request: October 2, 2017, as supplemented by letters dated January 22 and April 19, 2018.

Brief description of amendment: The amendment revised existing JAFNPP technical specification (TS) requirements related to “operations with a potential for draining the reactor vessel” with new requirements on reactor pressure vessel water inventory control to protect TS 2.1.1.3 Safety Limit.

Date of issuance: August 24, 2018.

Effective date: As of its date of issuance, and shall be implemented within 180 days of issuance.

Amendment No.: 321. A publicly-available version is in ADAMS under Accession No. ML18194A882; documents related to this amendment are listed in the Safety Evaluation enclosed with the amendment.

Renewed Facility Operating License No. DPR-59: The amendment revised the Renewed Facility Operating License and TS.

Date of initial notice in Federal Register: November 21, 2017 (82 FR 55406). The supplemental letters dated January 22 and April 19, 2018, provided additional information that clarified the application, did not expand the scope of the application as originally noticed, and did not change the staff's original proposed no significant hazards consideration determination as published in the Federal Register.

The Commission's related evaluation of the amendment is contained in a Safety Evaluation dated August 24, 2018.

No significant hazards consideration comments received: No.

FirstEnergy Nuclear Operating Company, Docket No. 50-440, Perry Nuclear Power Plant, Unit No. 1, Lake County, Ohio

Date of amendment request: February 14, 2018.

Brief description of amendment: The amendment revised Surveillance Requirement 3.3.1.1.2 of TS 3.3.1.1, “Reactor Protection System (RPS) Instrumentation,” to require adjustment of the average power range monitor (APRM) channels only if the calculated power exceeds the APRM output by more than 2 percent rated thermal power. The change is based on Technical Specifications Task Force (TSTF) traveler TSTF-546, “Revise APRM Channel Adjustment Surveillance Requirement.”

Date of issuance: August 23, 2018.

Effective date: As of the date of issuance and shall be implemented within 90 days of issuance.

Amendment No.: 183. A publicly-available version is in ADAMS under Accession No. ML18199A280; documents related to this amendment are listed in the Safety Evaluation enclosed with the amendment.

Facility Operating License No. NPF-58: Amendment revised the Facility Operating License and Technical Specifications.

Date of initial notice in Federal Register: April 24, 2018 (83 FR 17863).

The Commission's related evaluation of the amendment is contained in a Safety Evaluation dated August 23, 2018.

No significant hazards consideration comments received: No.

NextEra Energy Duane Arnold, LLC, Docket No. 50-331, Duane Arnold Energy Center, Linn County, Iowa

Date of amendment request: September 5, 2017, as supplemented by letter dated March 1, 2018.

Brief description of amendment: The amendment revised TS 3.5.1, “ECCS—Operating” to decrease the nitrogen supply requirement for the Automatic Depressurization System in Surveillance Requirement 3.5.1.3 from 100 days to 30 days.

Date of issuance: August 16, 2018.

Effective date: As of the date of issuance and shall be implemented within 90 days of issuance.

Amendment No.: 306. A publicly-available version is in ADAMS under Accession No. ML18179A184; documents related to this amendment are listed in the Safety Evaluation enclosed with the amendment.

Renewed Facility Operating License No. DPR-49: The amendment revised the Technical Specifications.

Date of initial notice in Federal Register: November 21, 2017 (82 FR 55407). The supplemental letter dated March 1, 2018, provided additional information that clarified the application, did not expand the scope of the application as originally noticed, and did not change the staff's original proposed no significant hazards consideration determination as published in the Federal Register.

The Commission's related evaluation of the amendment is contained in a Safety Evaluation dated August 16, 2018.

No significant hazards consideration comments received: No.

Southern Nuclear Operating Company, Docket Nos. 52-025 and 52-026, Vogtle Electric Generating Plant (VEGP), Units 3 and 4, Burke County, Georgia

Date of amendment request: April 13, 2018.

Description of amendment: The amendment requested changes to the plant-specific Appendix A, Technical Specifications (TS) as incorporated into the VEGP Combined License (COL), and changes to the approved AP1000 Design Control Document Tier 2 information as incorporated into the Updated Final Safety Analysis Report (UFSAR). Specifically, the amendment includes changes to the COL Appendix A, TS related to the statuses of the remotely operated containment isolation valves. There are two changes to the licensing basis documents that are proposed in this License Amendment Request. The first change is to clarify the post-accident monitoring (PAM) category designation for containment isolation valves statuses by explicitly stating it in the licensing basis. This change will help the operators avoid confusion and a potential human factor error and will allow operators to quickly verify that the nonessential containment flow paths are isolated and then focus on the availability of the essential flow paths for their defense-in-depth capabilities. The second change is to add PAM requirements to the UFSAR for the Normal Residual Heat Removal System, the Component Cooling Water System, and the Chemical and Volume Control System containment isolation valve statues to capture PAM requirements for their valve status which is not currently required for PAM in UFSAR Table 7.5-1, “Post-Accident Monitoring System”.

Date of issuance: August 7, 2018.

Effective date: As of the date of issuance and shall be implemented within 30 days of issuance.

Amendment Nos.: 137 (Unit 3) and 136 (Unit 4). A publicly-available version is in ADAMS under Accession No. ML18191B091; documents related to this amendment are listed in the Safety Evaluation enclosed with the amendment.

Facility Combined Licenses No. NPF-91 and NPF-92: Amendment revised the Facility Combined Licenses.

Date of initial notice in Federal Register: May 22, 2018 (83 FR 23728).

The Commission's related evaluation of the amendment is contained in the Safety Evaluation dated August 7, 2018.

No significant hazards consideration comments received: No.

Southern Nuclear Operating Company, Docket Nos. 52-025 and 52-026, Vogtle Electric Generating Plant (VEGP), Units 3 and 4, Burke County, Georgia

Date of amendment request: January 31, 2018, as supplemented by letter dated May 2, 2018.

Description of amendment: The amendment revises the VEGP Units 3 and 4 combined license (COL) Appendix A, Technical Specification (TS) related to Pressurizer Safety Valve (PSV) operability. The amendment changes TS 3.4.6, “PSV Applicability” to require the PSV to be operable when the TS 3.4.14, “Low Temperature Overpressure Protection,” is not required to be operable. A conforming change is made to the TS 3.4.6 Actions. Additional TS changes necessary to support PSV operability are made for consistency with the TS 3.4.6. The amendment also approves moving TS Limiting Condition for Operation Notes regarding reactor coolant pump starts from TS 3.4.4, “Reactor Coolant System (RCS) Loops, 3.4.8, “Minimum RCS Flow,” and 3.4.14 to TS 3.4.3, “RCS Pressure/Temperature Limits.”

Date of issuance: July 12, 2018.

Effective date: As of the date of issuance and shall be implemented within 30 days of issuance.

Amendment Nos.: 133 (Unit 3) and 132 (Unit 4). A publicly-available version is in ADAMS under Accession No. ML18159A437; documents related to this amendment are listed in the Safety Evaluation enclosed with the amendment.

Facility Combined Licenses Nos. NPF-91 and NPF-92: Amendment revised the Facility COL.

Date of Initial Notice in Federal Register: March 13, 2018 (83 FR 10922). The supplement dated May 2, 2018, provided additional information that clarified the application, did not expand the scope of the application as originally noticed, and did not change the NRC staff's original proposed no significant hazards consideration determination.

The Commission's related evaluation of the amendment is contained in the Safety Evaluation dated July 12, 2018.

No significant hazards consideration comments received: No.

Tennessee Valley Authority, Docket No. 50-390, Watts Bar Nuclear Plant (WBN), Unit 1, Rhea County, Tennessee

Date of amendment request: July 8, 2018, as supplemented by letters dated July 24 and July 30, 2018.

Brief description of amendment: The amendment extended Technical Specification (TS) Surveillance Requirements (SRs) 3.3.1.5, 3.3.2.2, and 3.3.6.2 by revising the WBN, Unit 1, TS SR 3.0.2 and certain SRs in Table SR 3.0.2-1.

Date of issuance: August 16, 2018.

Effective date: As of the date of issuance and shall be implemented immediately.

Amendment No.: 121. A publicly-available version is in ADAMS under Accession No. ML18204A252; documents related to this amendment are listed in the Safety Evaluation enclosed with the amendment.

Facility Operating License No. NPF-90: The amendment revised the Facility Operating License and TSs.

Date of initial notice in Federal Register: July 16, 2018 (83 FR 32912). The supplemental letters dated July 24 and July 30, 2018, provided additional information that clarified the application, did not expand the scope of the application as originally notified, and did not change the NRC staff's proposed no significant hazards consideration determination as published in the Federal Register.

The Commission's related evaluation of the amendment and final determination of no significant hazards consideration is contained in a Safety Evaluation dated August 16, 2018.

No significant hazards consideration comments received: No.

Dated at Rockville, Maryland, this 31st day of August 2018.
For the Nuclear Regulatory Commission.
Kathryn M. Brock,
Deputy Director, Division of Operating Reactor Licensing, Office of Nuclear Reactor Regulation.

[FR Doc. 2018-19419 Filed 9-10-18; 8:45 am]

BILLING CODE 7590-01-P